DEPARTMENT OF THE INTERIOR

National Park Service

[NPS-WASO-NAGPRA-NPS0024160; PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural items listed in this notice meet the definition of sacred objects. Lineal descendants or representatives of any Indian Tribe or Native Hawaiian organization not identified in this notice that wish to claim these cultural items should submit a written request to the New York State Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the New York State Museum at the address in this notice by December 8, 2017.

ADDRESSES: Lisa Anderson, New York State Museum, 3049 Cultural Education Center, Albany, NY 12230, telephone (518) 486-2020, email lisa.anderson@nysed.gov.

SUPPLEMENTARY INFORMATION: Notice is here given in accordance with the Native American Graves Protection and Repatriation Act (NAGPRA), 25 U.S.C. 3005, of the intent to repatriate cultural items under the control of the New York State Museum, Albany, NY, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1850, the New York State Museum (hereafter “Museum”) purchased one cultural item from Lewis Henry Morgan of Rochester, NY. The cultural item is a wooden medicine mask that Morgan obtained from a member of the Onondaga Nation at the Six Nations Reserve in Canada (E-36909).

In 1898, Harriet Maxwell Converse of New York City, NY, donated five cultural items to the Museum. The cultural items are five wooden medicine masks (E-37015, E-37043, E-37614, E-37626, E-94). Museum records indicate one of the masks was purchased from the son of Tadodaho in July 1898.

In 1907, the Museum purchased one cultural item from Mark R. Harrington of Covert and Harrington in New York City, NY. The cultural item is a wood and cornhusk medicine mask obtained from Albert Silversmith at the Six Nations Reserve in Canada (E-37018).

In 1911, Arthur C. Parker, Museum ethnologist and archeologist, acquired one cultural item for the Museum. The cultural item is a wooden medicine mask obtained (E-37037).

Traditional religious leaders of the Onondaga Nation have identified these eight medicine faces as being needed for the practice of traditional Native American religions by present-day adherents. Museum documentation, supported by oral evidence presented during consultation with members of the Haudenosaunee Standing Committee on Burial Rules and Regulations, indicates that these medicine faces are culturally affiliated with the Onondaga Nation.

Determinations Made by the New York State Museum

Officials of the New York State Museum have determined that:

• Pursuant to 25 U.S.C. 3001(3)(C), the 8 cultural items described above are specific ceremonial objects needed by traditional Native American religious leaders for the practice of traditional Native American religions by their present-day adherents.

• Pursuant to 25 U.S.C. 3001(2), there is a relationship of shared group identity that can be reasonably traced between the sacred objects and the Onondaga Nation.

Additional Requestors and Disposition

Lineal descendants or representatives of any Indian Tribe or Native Hawaiian organization not identified in this notice that wish to claim these cultural items should submit a written request with information in support of the claim to Lisa Anderson, New York State Museum, 3049 Cultural Education Center, Albany, NY 12230 telephone (518) 486-2020, email lisa.anderson@nysed.gov, by December 8, 2017. After that date, if no additional claimants have come forward, transfer of control of the sacred objects to the Onondaga Nation may proceed.

The New York State Museum is responsible for notifying the Cayuga Nation; Oneida Nation (previously listed as the Oneida Tribe of Indians of Wisconsin); Oneida Nation of New York; Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Tonawanda Band of Seneca (previously listed as the Tonawanda Band of Seneca Indians of New York); and the Tuscarora Nation that this notice has been published.

Dated: September 15, 2017.
Melanie O'Brien,
Manager, National NAGPRA Program.

[FR Doc. 2017-24227 Filed 11-7-17; 8:45 am]

BILLING CODE 4312-52-P